NUCLEAR REGULATORY COMMISSION

[NRC-2012-0310; Docket Nos.: 50-445 and 50-446; License Nos.: NPF-87 and NPF-89]

In the Matter of Luminant Generation Company LLC, Comanche Peak Nuclear Power Plant, Units 1 and 2; Order Approving the Proposed Internal Restructuring and Indirect Transfer of License; Correction

AGENCY: Nuclear Regulatory Commission.

ACTION: Notice; correction.

SUMMARY: The U.S. Nuclear Regulatory Commission is correcting a notice that was published in the Federal Register (FR) on March 5, 2013 (78 FR 14361), regarding the order approving the proposed internal restructuring and indirect transfer of license. This action is necessary to correct the date of a safety evaluation that was incorrectly referenced in Section II of this notice. The safety evaluation date was corrected by letter dated February 25, 2013, which is available in the Agencywide Documents Access and Management System (ADAMS) at Accession No. ML13056A266.

FOR FURTHER INFORMATION CONTACT: Cindy Bladey, Chief, Rules, Announcements, and Directives Branch, Office of Administration, Nuclear Regulatory Commission, Washington, DC 20555-0001; telephone 301-492-3667; email: Cindy.Bladey@nrc.gov.

Correction

In the FR of March 5, 2013, in FR Doc. 2013-05021, on page 14362, second column, first complete paragraph, correct the last sentence to read:

The findings set forth above are supported by a safety evaluation dated February 22, 2013.

Dated in Rockville, Maryland, this 13th day of March 2013.
For the Nuclear Regulatory Commission.
Cindy Bladey,
Chief, Rules, Announcements, and Directives Branch, Division of Administrative Services, Office of Administration.

[FR Doc. 2013-06238 Filed 3-18-13; 8:45 am]

BILLING CODE 7590-01-P